FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 2, 2012.

A. Federal Reserve Bank of Chicago (Colette A. Fried, Assistant Vice President) 230 South LaSalle Street, Chicago, Illinois 60690-1414:

1. The Garst Family (Elizabeth Garst, Edward Garst and Rachel Garst of Coon Rapids, Iowa; Jennifer Garst, Ames, Iowa; Kate Garst Revocable Trust, Des Moines, Iowa, Kate Garst Trustee; Sarah Garst, West Des Moines, Iowa), as a group acting in concert and individually by Elizabeth Garst, Sarah Garst, and Sally Garst Haerr, Fairfield, Iowa, to increase control to more than 25 percent of Perry Investment Company, Perry, Iowa, and thereby indirectly control Raccoon Valley Bank, Perry, Iowa.

B. Federal Reserve Bank of St. Louis (Glenda Wilson, Community Affairs Officer) P.O. Box 442, St. Louis, Missouri 63166-2034:

2. Clayton B. Patrick, Frankfort, Kentucky; to acquire share of American Founders Bancorp, Inc., Lexington, Kentucky, and thereby acquire shares of American Founders Bancorp, Inc., Lexington, KY.

Board of Governors of the Federal Reserve System, September 14, 2012.
Robert deV. Frierson,
Secretary of the Board.

[FR Doc. 2012-23096 Filed 9-18-12; 8:45 am]

BILLING CODE 6210-01-P